DEPARTMENT OF COMMERCE

National Oceanic and Atmospheric Administration

[RTID 0648-XF021]

Mid-Atlantic Fishery Management Council (MAFMC); Public Meeting

AGENCY: National Marine Fisheries Service (NMFS), National Oceanic and Atmospheric Administration (NOAA), Commerce.

ACTION: Notice of public meeting.

SUMMARY: The Scientific and Statistical Committee (SSC) of the Mid-Atlantic Fishery Management Council (Council) will hold a meeting.

DATES: The meeting will be held on Tuesday, July 22, 2025, starting at 9:30 a.m. and continue through 12:30 p.m. on Thursday, July 24, 2025. See SUPPLEMENTARY INFORMATION for agenda details.

ADDRESSES: This will be an in-person meeting with a virtual option. SSC members, other invited meeting participants, and members of the public will have the option to participate in person at the Courtyard Philadelphia Downtown 1421 Arch Street, Philadelphia, PA or virtually via Webex webinar. Webinar connection instructions and briefing materials will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will make multi-year acceptable biological catch (ABC) recommendations for Bluefish, Summer Flounder, Scup, Black Sea Bass, and Illex Squid based on the results of the recently completed management track stock assessments and peer review. The SSC will recommend new 2026-2027 ABC specifications for Bluefish, Summer Flounder, Scup, and Black Sea Bass and new 2026-2028 ABC recommendations for Illex Squid. The SSC will review and provide feedback on the draft Ecosystem and Socioeconomic Profile Snapshot for Black Sea Bass. The SSC will also review and finalize the draft white paper developed by an SSC sub-group on the scientific considerations of sector-specific Overfishing Limits (OFLs)/ABCs for Summer Flounder, Scup, and Black Sea Bass. The SSC may take up any other business as necessary.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: July 1, 2025.
Rey Israel Marquez,
Acting Deputy Director, Office of Sustainable Fisheries, National Marine Fisheries Service.

[FR Doc. 2025-12478 Filed 7-2-25; 8:45 am]

BILLING CODE 3510-22-P